DEPARTMENT OF ENERGY

Federal Energy Regulatory Commission

[Docket No. RP99-291-002]

Transcontinental Gas Pipe Line Corporation; Notice of Compliance Filing

June 1, 2000.

Take notice that on May 26, 2000, Transcontinental Gas Pipe Line Corporation (Transco) tendered for filing certain revised tariff sheets for inclusion in its FERC Gas Tariff, Third Revised Volume No, 1, which tariff sheets are enumerated in Appendix A attached to the filing. Such tariff sheets are proposed to be effective April 14, 2000.

Transco states that the purpose of the instant filing is to revise Rate Schedules LNG and LNG-R to be consistent with the requirements for a Part 284 open-access service as discussed in the Commission's April 14, 2000 Order on Rehearing Rejecting Tariff Sheets in the referenced docket. (April 14 Order). In compliance with the April 14 Order, Transco is herein revising Rate Schedules LNG and LNG-R to provide some receipt and delivery point flexibility. Specifically, secondary point rights under these rate schedules will be provided, but will be limited to (1) the same zone in which the customer's primary receipt and delivery point are located and (2) physical points on Transco's system where measurement facilities exist, excluding pipeline interconnects.

Transco states that it is serving copies of the instant filing to its interveners as reflected on the official service list.

Any person desiring to protest this filing should file a protest with the Federal Energy Regulatory Commission, 888 First Street, NE., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-14232 Filed 6-6-00; 8:45 am]

BILLING CODE 6717-01-M